DEPARTMENT OF LABOR

Employment and Training Administration

Senior Community Service Employment Program

AGENCY: Employment and Training Administration, Labor.

ACTION: Notice of Procedures for Recapture and Reobligation of Unexpended Program Year Grant Funds.

SUMMARY: the Employment and Training Administration interprets Federal law requirements pertaining to the 2000 Amendments to the Older Americans Act (OAA), Pub. L. 106-501, for the administration of the Senior Community Service Employment Program (SCSEP) authorized under Title V of the Act. These interpretations are issued in Older Worker Bulletins transmitted to SCSEP grantees. The Older Worker Bulletin described below is published in the Federal Register in order to inform the public.

Older Worker bulletin No. 03-04 advises SCSEP grantees of the procedures for the recapture and reobligation of unexpended Program Year SCSEP grant funds, as authorized under section 515(c) of the OAA. The recaptured funds will retain their original fiscal identity—e.g., recaptured Program Year 2001 funds will still be considered as Program Year 2001 funds when reobligated.

The Employment and Training Administration is authorized to reobligate such funds within two succeeding Program Years to be used for incentive grants technical assistance or grants or contracts for any other SCSEP program. The operating instructions in Older Worker bulletin No. 03-04 are issued to SCSEP grantees as guidance provided by the Employment and Training Administration in its role as administrator of Title V of the OAA.

Pending the issuance of regulations implementing the provisions of the 2000 Amendments to the OAA, the procedures in Older Worker Bulletin No. 03-04 constitute the controlling guidance for SCSEP grantees relative to this section of the Amendments.

Signed at Washington, DC this 27 day of May, 2003.
Emity Stover DeRocco,
Assistant Secretary of Labor.

Attachment: Older Worker Bulletin No. 03-04.

BILLING CODE 5001-08-M

[FR Doc. 03-14142 Filed 6-4-03; 8:45 am]

BILLING CODE 5001-08-C